GENERAL SERVICES ADMINISTRATION

Government Travel and Transportation Policy; National Travel Forum 2002

AGENCY: Office of Governmentwide Policy, GSA.

ACTION: Notice.

SUMMARY: The General Services Administration (GSA) is announcing that it will hold the National Travel Forum 2002: Excellence in Government Travel and Transportation (NTF 2002) on June 17-20, 2002, at the Opryland Hotel in Nashville, Tennessee. Nearly 1,500 travel, transportation and other professionals within Federal, State, and local governments, as well as the private sector will attend. Much of the focus will be on travel and transportation safety, electronic travel, the Federal Premier Lodging Program and revised travel rules. Also included will be best practices in Government travel and transportation, retirement of the Government Bill of Lading (GBL) and adoption of Commercial Bills of Lading (CBLs), implementation of order entry systems and unique numbering systems, promotional items, as well as a full range of other travel and transportation topics. To attend, exhibit, or hold an agencywide meeting, visit the web site at www.nationaltravel2002.org.

FOR FURTHER INFORMATION CONTACT: Jane Graot, Federal Travel Regulation, Office of Governmentwide Policy, at (202) 501-4318, or by e-mail to jane.groat@gsa.gov.

Dated: February 7, 2002.
Timothy J. Burke,
Director, Travel Management Division.

[FR Doc. 02-3449 Filed 2-12-02; 8:45 am]

BILLING CODE 6820-34-M